DEPARTMENT OF DEFENSE

Office of the Secretary

[Docket ID DOD-2009-OS-0074]

Privacy Act of 1974; Systems of Records

AGENCY: National Security Agency/Central Security Service, DoD.

ACTION: Notice to add a system of records.

SUMMARY: The National Security Agency/Central Security Service proposes to add a system of records notices in its inventory of record systems subject to the Privacy Act of 1974, (5 U.S.C. 552a), as amended.

DATES: This proposed action will be effective without further notice on July 8, 2009 unless comments are received which would result in a contrary determination.

ADDRESSES: Send comments to the National Security Agency/Central Security Service, Freedom of Information Act and Privacy Act Office, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The proposed system report, as required by 5 U.S.C. 552a(r) of the Privacy Act of 1974, as amended, was submitted on June 1, 2009, to the House Committee on Oversight and Government Reform, the Senate Committee on Governmental Affairs, and the Office of Management and Budget (OMB) pursuant to paragraph 4c of Appendix I to OMB Circular No. A-130, `Federal Agency Responsibilities for Maintaining Records About Individuals,' dated February 8, 1996 (February 20, 1996, 61 FT 6427).

Dated: June 1, 2009.
Morgan E. Frazier,
Alternate OSD Federal Register Liaison Officer, Department of Defense.

GNSA 25

System Name:

NSA/CSS Travel Records.

System location:

Primary location: National Security Agency/Central Security Service (NSA/CSS), 9800 Savage Road, Ft. George G. Meade, MD 20755-6000.

Decentralized segments: Defense Intelligence Agency (DIA) Headquarters and DIA field elements as authorized and appropriate. For official mailing address for any of the decentralized system locations, write to the National Security Agency/Central Security Service, Freedom of Information Act/Privacy Act Office, 9800 Savage Road, Ft. George G. Meade, MD 20755-6248.

Categories of individuals covered by the system:

All NSA/CSS and DIA civilian employees, military assignees, and dependents who perform travel, Temporary Duty (TDY) or Permanent Change of Station (PCS); public and private sector individuals traveling under invitational travel orders, and other DoD activities supported by DIA.

Categories of records in the system:

Records relating to official travel of individuals, including, orders, travel vouchers, travel itineraries, transportation requests, claim data, travel charge card, Requests for Travel Authorization (RTA)/Expense Report, and direct deposit information. Records may contain individual's name, Social Security Number (SSN), organizational designator, office phone numbers and home address.

Authority for maintenance of the system:

5 U.S.C. Chapter 57, Travel, Transportation and Subsistence; 10 U.S.C. Chapter 157, Transportation; 37 U.S.C. Section 411, Travel and Transportation Allowances: Administrative Provisions; Chapters 300-304 of 41 CFR, the Federal Travel Regulations and E.O. 9397 (SSN).

Purpose(s):

Records are used in administering the travel program, managing and tracking funds, and accounting for employee status for pay and leave, while on travel.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows: To Federal agency or private sector organizations employing the traveler for funds control, personnel administration, or program management purposes.

To banking establishments for the purpose of facilitating direct deposit and to confirm billing or expense data.

To Government and private sector entities to provide for or facilitate transportation, lodging, relocation or related travel services.

To Federal, State, and Local government agencies for taxing, audit, or oversight purposes.

To any entity or individual under contract with NSA/CSS for the purpose of providing travel-related services.

To any party, counsel, representative, and/or witness, in any legal proceeding, where pertinent, to which DoD is a party before a court or administrative body (including, but not limited to, the Equal Employment Opportunity Commission and Merit System Protection Board).

The DoD `Blanket Routine Uses' published at the beginning of the NSA/CSS's compilation of record systems also apply to this record system.

Policies and practices for storing, retrieving, accessing, retaining, and disposing of records in the system:

Storage:

Paper records in file folders and electronic storage media.

Retrievability:

By name and/or Social Security Number (SSN).

Safeguards:

Buildings are secured by a series of guarded pedestrian gates and checkpoints. Access to facilities is limited to security-cleared personnel and escorted visitors only. Within the facilities themselves, access to paper and computer printouts are controlled by limited-access facilities and lockable containers. Access to electronic means is controlled by computer password protection.

Retention and disposal:

Records are retained for 6 years then destroyed. Records are destroyed by pulping, burning, shredding, erasure or destruction of magnet medial.

System manager(s) and address:

Chief Corporate Travel Service, National Security Agency/Central Security Service, 9800 Savage Road, Ft. George G. Meade, MD 20755-6000.

Notification procedure:

Individuals seeking to determine if records about themselves are contained in this record system should address written inquiries to the National Security Agency/Central Security Service, Freedom of Information Act/Privacy Act Office, 9800 Savage Road, Suite 6248, Ft. George G. Meade, MD 20755-6248.

Written inquires should include individual's full name, address, and telephone number.

Record access procedures:

Individuals seeking access to records about themselves contained in this record system should address written inquiries to the National Security Agency/Central Security Service, Freedom of Information Act/Privacy Act Office, 9800 Savage Road, Suite 6248, Ft. George G. Meade, MD 20755-6248.

Written inquires should include individual's full name, address, and telephone number.

Contesting record procedures:

The NSA/CSS rules for contesting contents and appealing initial determinations are published at 32 CFR part 322 or may be obtained by written request addressed to the National Security Agency/Central Security Service, Freedom of Information Act/Privacy Act Office, Suite 6248, Ft. George G. Meade, MD 20755-6248.

Record source categories:

Information is collected from the individual and the individual's supervisor, from the hiring activity's personnel office, and from travel and expense forms.

Exemptions claimed for the system:

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of such information, the individual will be provided access to the information exempt to the extent that disclosure would reveal the identity of a confidential source. Note: When claimed, this exemption allows limited protection of investigative reports maintained in a system of records used in personnel or administrative actions.

Records maintained solely for statistical research or program evaluation purposes and which are not used to make decisions on the rights, benefits, or entitlement of an individual except for census records which may be disclosed under 13 U.S.C. 8, may be exempt pursuant to 5 U.S.C. 552a(k)(4).

An exemption rule for this record system has been promulgated according to the requirements of 5 U.S.C. 553(b)(1), (2), and (3), (c) and (e) and published in 32 CFR part 322. For additional information contact the system manager.

[FR Doc. E9-13264 Filed 6-5-09; 8:45 am]

BILLING CODE 5001-06-P